DEPARTMENT OF THE INTERIOR

National Park Service

National Register of Historic Places; Notification of Pending Nominations and Related Actions

Nominations for the following properties being considered for listing or related actions in the National Register were received by the National Park Service before May 13, 2006.

Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by June 21, 2006.

John W. Roberts,
Acting Chief, National Register/National Historic Landmarks Program.

ALASKA

Kenai Peninsula Borough-Census Area

Hoben Park, 401 Railway Ave., Seward, 06000515

CALIFORNIA

Plumas County

Warner Valley Major Developed Area Historic District, (Lassen Volcanic National Park MPS) Head of Warner Valley, Chester, 06000526

Shasta County

Lassen Volcanic National Park Highway Historic District, (Lassen Volcanic National Park MPS) NPS Route 1, CA 89, Mineral, 06000527

Manzanita Lake Campground Comfort Station at Camp Store, (Lassen Volcanic National Park MPS) 39489 CA 44, Shingletown, 06000528

Manzanita Lake Campground Comfort Station, Loop C, (Lassen Volcanic National Park MPS) 39489 CA 44, Shingletown, 06000529

Manzanita Lake Naturalist's Services Historic District, (Lassen Volcanic National Park MPS) 39489 CA 44, Shingletown, 06000525

DISTRICT OF COLUMBIA

District of Columbia

Washington and Georgetown Railroad Car House, (Streetcar and Bus Resources of Washington, DC MPS) 770 M St. SE, Washington, 06000516

INDIANA

Blackford County

Hartford City Courthouse Square Historic District, Roughly bounded by Franklin, Walnut, Water and Monroe Sts., Hartford City, 06000522

Dubois County

Huntingburg Commercial Historic District, Roughly bounded by Geiger, 4th, Jackson and Market Sts., Huntingburg, 06000517

Fayette County

Fayette County Courthouse, 401 Central Ave., Connersville, 06000518

Morgan County

Morgantown Historic District, Approx. 4.5 blks centered on Washington St., bet. Marion St. and E of Church St., Morgantown, 06000519

Putnam County

Brown, Samuel, House, 1558 E. Cty Rd. 1100 N, Roachdale, 06000520

Wabash County

Lewis, Thomas J., House, 105 S. Arnold St., Roann, 06000521

MASSACHUSETTS

Hampden County

Brimfield Center Historic District, Main St., Brookfled, Wales, Sturbridge and Warren Rds., Brimfield, 06000524

Middlesex County

Center School, 13 Bedford St., Burlington, 06000523

[FR Doc. E6-8690 Filed 6-5-06; 8:45 am]

BILLING CODE 4312-51-P